DEPARTMENT OF LABOR

Employment and Training Administration

[TA-W-53,230]

The Amerbelle Corporation, Vernon, CT; Notice of Termination of Investigation

Pursuant to section 221 of the Trade Act of 1974, an investigation was initiated on October 14, 2003 in response to a worker petition which was filed by a company official on behalf of workers at the Amerbelle Corporation, Vernon, Connecticut.

The petitioner has requested that the petition be withdrawn. Consequently, further investigation in this case would serve no purpose, and the investigation has been terminated.

Signed in Washington, DC this 10th day of November, 2003.
Linda G. Poole,
Certifying Officer, Division of Trade Adjustment Assistance.

[FR Doc. 03-29950 Filed 12-1-03; 8:45 am]

BILLING CODE 4510-30-P